DEPARTMENT OF AGRICULTURE

Office of the Secretary

Privacy Act of 1974; Abolish System of Records

AGENCY: Office of the Secretary, USDA.

ACTION: Notice of abolishment of Department of Agriculture System of Records, USDA/FS-12 Incident Management and Prescribed Fire Qualification and Experience Records.

SUMMARY: The records formerly maintained in the Privacy Act System of Records, USDA/FS-12 Incident Management and Prescribed Fire Qualification and Experience Records are now maintained in another Privacy Act System of Records USDA/BLM-40 Incident Qualification and Certification System (IQCS). Therefore, this system is being abolished and removed from the inventory of USDA Systems of Records in accordance with the Privacy Act of 1974 (5 U.S.C. 552a), as amended.

DATES: This notice is effective on September 17, 2008.

ADDRESSES: For additional information contact the Director of Fire and Aviation Management, Forest Service, U.S. Department of Agriculture, 1400 Independence Avenue, SW., Mailstop 1107, Washington, DC 20250-1107.

FOR FURTHER INFORMATION CONTACT: Tom Harbour, Director of Fire and Aviation Management, Forest Service, U.S. Department of Agriculture, telephone: (202) 205-1483.

SUPPLEMENTARY INFORMATION: The Privacy Act of 1974 (5 U.S.C. 552a), as amended, requires that each agency publish a notice of the existence and character of each new or altered “system of records.” 5 U.S.C. 552a(a)(5). This notice identifies a Forest Service System of Records that is no longer in use, USDA/FS-12 Incident Management and Prescribed Fire Qualification and Experience Records. The records which were formerly maintained in this system are now maintained in another Privacy Act System of Records, USDA/BLM-40 Incident and Certification System (IQCS); as published in the Federal Register on February 6, 2008. The System of Records, USDA/FS-12, Incident Management and Prescribed Fire Qualification and Experience Records is abolished as absolute and no longer used, and it is removed from the inventory of the USDA System of Records.

Dated: September 3, 2008.
Edward T. Schafer,
Secretary.

[FR Doc. E8-21726 Filed 9-16-08; 8:45 am]

BILLING CODE 3410-11-P